DEPARTMENT OF COMMERCE

National Oceanic and Atmospheric Administration

[I.D. 081204B]

Atlantic Highly Migratory Species; Advisory Panels

AGENCY: National Marine Fisheries Service (NMFS), National Oceanic and Atmospheric Administration (NOAA), Commerce.

ACTION: Notice of Highly Migratory Species and Billfish Advisory Panel meetings; request for nominations.

SUMMARY: NMFS will hold a joint Highly Migratory Species Advisory Panel (HMS AP) and Billfish Advisory Panel (Billfish AP) meeting in March 2005. Additionally, NMFS solicits nominations for the HMS AP and the Billfish AP. The intent of these Advisory Panel meetings is to consider alternatives for amending the fishery management plans for Atlantic highly migratory species (HMS).

DATES: The joint HMS-Billfish AP meeting will be held from 1 p.m. to 5 p.m. on Monday, March 21, 2005; from 8 a.m. to 5 p.m. on Tuesday, March 22, 2005; and from 8 a.m. to 5 p.m. on Wednesday, March 23, 2005.

Nominations must be submitted on or before October 12, 2004.

ADDRESSES: The AP meeting will be held at the Holiday Inn, 8777 Georgia Avenue (Rt. 97), Silver Spring, MD 20910. Phone: 301-589-0800.

You may submit Nominations and requests for the AP Statement of Organization, Practices, and Procedures by any of the following methods:

• Email: ID081204B@noaa.gov. Include in the subject line the following identifier: I.D. 081204B.

• Mail: Christopher Rogers, Chief, Highly Migratory Species Management Division, NMFS, 1315 East-West Highway, Silver Spring, MD 20910.

• Fax: 301-713-1917.

FOR FURTHER INFORMATION CONTACT: Othel Freeman or Carol Douglas (301) 713-2347.

SUPPLEMENTARY INFORMATION:

Introduction

In accordance with the Magnuson-Stevens Fishery Conservation and Management Act, (Magnuson-Stevens Act), 16 U.S.C. 1801 et seq., as amended by the Sustainable Fisheries Act, Public Law 104-297, Advisory Panels (AP) have been established to consult with NMFS in the collection and evaluation of information relevant to the HMS Fishery Management Plan (FMP) (April 1999), Amendment 1 to the HMS FMP (December 2004), and the Amendment 1 to the Billfish FMP (April 1999). Nominations are being sought to fill one-third of the posts on the HMS AP for 3-year appointment and one-half of the posts on the Billfish AP for 2-year appointments. The nomination process and appointments are required by the Statement of Organization, Practices, and Procedures for each AP.

The purpose of the HMS AP is to advise and assist the Secretary of Commerce (Secretary) in the collection and evaluation of information relevant to any amendment to the HMS FMP. The HMS AP evaluates future management options for Atlantic tunas, swordfish, and sharks under the requirements of the Magnuson-Stevens Act.

The purpose of the Billfish AP is to advise and assist the Secretary in the collection and evaluation of information relevant to any amendment to the Billfish FMP. The Billfish AP evaluates future management options for Atlantic billfish under the requirements of the Magnuson-Stevens Act.

Procedures and Guidelines

A. Procedures for Appointing the Advisory Panels

Individuals with definable interests in the recreational and commercial fishing and related industries, environmental community, academia, governmental entities, and non-governmental organizations will be considered for membership in the AP.

Nominations are invited from all individuals and constituent groups. Nominations should include:

1. The name of the applicant or nominee and a description of their interest in HMS or one species in particular from among sharks, swordfish, tunas, and billfish;

2. A statement of background and/or qualifications;

3. The AP to which the applicant seeks appointment;

4. A written commitment that the applicant or nominee shall actively participate in good faith in the tasks of the AP; and

5. Outreach resources.

Tenure for the HMS AP

Member tenure will be for 3 years, with one-third of the members' terms expiring on the last day of each calendar year. All appointments will be for 3 years (36 months).

Tenure for the Billfish AP

Member tenure will be for 2 years, with one-half of the terms expiring on the last day of each calendar year. All appointments will be for 2 years (24 months).

B. Participants

The HMS AP consists of not less than 23 members who are knowledgeable about the fisheries for Atlantic HMS species. The Billfish AP consists of not less than nine members who are knowledgeable about the fisheries for Atlantic billfish species. Nominations for each AP will be accepted to allow representation from recreational and commercial fishing interests, the conservation community, and the scientific community.

NMFS does not believe that each potentially affected organization or individual must necessarily have its own representative, but each area of interest must be adequately represented. The intent is to have a group that, as a whole, reflects an appropriate and equitable balance and mix of interests given the responsibilities of each AP. Criteria for membership include one or more of the following: (a) experience in the recreational fishing industry involved in catching swordfish, tunas, billfish, or sharks; (b) experience in the commercial fishing industry for HMS; (c) experience in fishery-related industries (marinas, bait and tackle shops); (d) experience in the scientific community working with HMS; and/or (e) representation of a private, non-governmental, regional, (non-Federal) state, national, or international organization representing marine fisheries, environmental, governmental or academic interests dealing with HMS.

Five additional members in each AP include one voting member representing each of the following Councils: New England Fishery Management Council, the Mid-Atlantic Fishery Management Council, the South Atlantic Fishery Management Council, the Gulf of Mexico Fishery Management Council, and the Caribbean Fishery Management Council. The AP also includes 22 ex officio participants: 20 representatives of the constituent states and two representatives of the constituent interstate commissions (the Atlantic States Marine Fisheries Commission and the Gulf States Marine Fisheries Commission).

NMFS will provide the necessary administrative support, including technical assistance, for each AP. However, NMFS will not compensate participants with monetary support of any kind. Depending on availability of funds, members may be reimbursed for travel costs related to the AP meetings.

C. Meeting Schedule

Meetings of each AP will be held as frequently as necessary but are routinely held once each year in the spring. Often the meetings are held jointly, and may be held in conjunction with other advisory panel meetings or public hearings.

The March 2005 joint HMS-Billfish AP meeting will focus on management alternatives for Atlantic tunas, swordfish, sharks, and billfish. On July 9, 2003, NMFS published a notice of (68 FR 40907) intent to prepare an Environmental Impact Statement for Amendment 2 to the HMS FMP and Amendment 2 to the Billfish FMP. Amendment 2 to the HMS FMP is intended to: (1) address issues regarding quota allocation of Atlantic bluefin tuna, swordfish, and sharks among and within domestic fishing categories, (2) examine management alternatives to improve and streamline the current HMS limited access permit program, (3) conduct a 5-year review of HMS essential fish habitat (EFH) identifications, and (4) address exempted fishing and scientific research permitting issues consistent with rebuilding plans, the Magnuson-Stevens Act, Atlantic Tunas Convention Act (ATCA), and other relevant Federal laws. Amendment 2 to the Billfish FMP is intended to conduct a 5-year review of Atlantic billfish EFH identifications and address other issues as appropriate, consistent with the Magnuson-Stevens Act, ATCA, and other relevant Federal laws.

Special Accommodations

These meetings are physically accessible to people with disabilities. Requests for sign language interpretation or other auxiliary aids should be directed to Othel Freeman or Carol Douglas (see FOR FURTHER INFORMATION CONTACT) at least 7 days prior to the meeting.

Authority: 16 U.S.C. 971 et seq. and 1801 et seq.

Date: August 19, 2004,
Alan D. Risenhoover,
Acting Director, Office Of Sustainable Fisheries, National Marine Fisheries Service.

[FR Doc. 04-19475 Filed 8-24-04; 8:45 am]

BILLING CODE 3510-22-S